DEPARTMENT OF COMMERCE

International Trade Administration

[A-570-848]

Freshwater Crawfish Tail Meat From the People's Republic of China: Preliminary Results of Antidumping Duty Administrative Review and New Shipper Reviews; 2013-2014

AGENCY: Enforcement and Compliance, International Trade Administration, Department of Commerce.

SUMMARY: The Department of Commerce (the Department) is conducting an administrative review and new shipper reviews of the antidumping duty order on freshwater crawfish tail meat from the People's Republic of China (PRC). The period of review (POR) for the administrative review and new shipper reviews is September 1, 2013, through August 31, 2014. The Department preliminarily determines that China Kingdom (Beijing) Import & Export Co., Ltd. (China Kingdom), Deyan Aquatic Products and Food Co., Ltd. (Deyan Aquatic), Hubei Yuesheng Aquatic Products Co., Ltd. (Hubei Yuesheng), and Weishan Hongda Aquatic Food Co., Ltd (Weishan Hongda) have not made sales of subject merchandise in the United States at prices below normal value. With respect to Shanghai Ocean Flavor International Trading Co., Ltd. (Shanghai Ocean), see section below entitled “Separate Rate for a Non-Selected Company.”

DATES: Effective Date: October 7, 2015.

FOR FURTHER INFORMATION CONTACT: Hermes Pinilla (China Kingdom), Andre Gziryan (Deyan Aquatic), Bryan Hansen (Hubei Yuesheng) or Catherine Cartsos (Weishan Hongda), AD/CVD Operations, Office I, Enforcement and Compliance, International Trade Administration, U.S. Department of Commerce, 14th Street and Constitution Avenue NW., Washington, DC 20230; telephone: (202) 482-3477, (202) 482-2201, (202) 482-3683, or (202) 482-1757, respectively.

SUPPLEMENTARY INFORMATION:

Scope of the Order

The merchandise subject to the antidumping duty order is freshwater crawfish tail meat, which is currently classified in the Harmonized Tariff Schedule of the United States (HTSUS) under item numbers 1605.40.10.10, 1605.40.10.90, 0306.19.00.10, and 0306.29.00.00. On February 10, 2012, the Department added HTSUS classification number 0306.29.01.00 to the scope description pursuant to a request by U.S. Customs and Border Protection (CBP). While the HTSUS numbers are provided for convenience and customs purposes, the written description is dispositive. A full description of the scope of the order is contained in the Preliminary Decision Memorandum.¹

¹ See the memorandum from Christian Marsh, Deputy Assistant Secretary for Antidumping and Countervailing Duty Operations, to Ronald K. Lorentzen, Acting Assistant Secretary for Enforcement and Compliance, “Decision Memorandum for the Preliminary Results of the Antidumping Duty Administrative Review and New Shipper Reviews: Freshwater Crawfish Tail Meat from the People's Republic of China” dated concurrently with and hereby adopted by this notice (Preliminary Decision Memorandum).

Methodology

The Department conducted these reviews in accordance with section 751(a)(2) of the Tariff Act of 1930, as amended (the Act). Export Price is calculated in accordance with section 772(c) of the Act. Because the PRC is a non-market economy (NME) within the meaning of section 771(18) of the Act, normal value has been calculated in accordance with section 773(c) of the Act.

For a full description of the methodology underlying our conclusions, see Preliminary Decision Memorandum. The Preliminary Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Preliminary Decision Memorandum can be accessed directly on the Internet at http://enforcement.trade.gov/frn/index.html. The signed Preliminary Decision Memorandum and the electronic versions are identical in content.

Separate Rate for a Non-Selected Company

Shanghai Ocean is the only exporter of crawfish tail meat from the PRC that demonstrated its eligibility for a separate rate which was not selected for individual examination in this administrative review. The calculated rates of the respondents selected for individual examination are all zero. We conclude that, in this case a reasonable method for determining the rate for the non-selected company, Shanghai Ocean, is to apply the average of the zero margins calculated for the two mandatory respondents in the administrative review, China Kingdom and Deyan Aquatic. For a detailed discussion, see Preliminary Decision Memorandum.

Preliminary Results of Reviews

The Department determines that the following preliminary dumping margins exist for the administrative review covering the period September 1, 2013, through August 31, 2014:

Producer/exporter | Weighted average dumping margin (percent)
China Kingdom (Beijing) Import & Export Co., Ltd | 0.00
Deyan Aquatic Products and Food Co., Ltd | 0.00
Shanghai Ocean Flavor International Trading Co., Ltd | 0.00

As a result of the new shipper reviews, the Department preliminarily determines that dumping margins of 0.00 percent exist for merchandise produced and exported by Hubei Yuesheng Aquatic Products Co., Ltd. and for merchandise produced and exported by Weishan Hongda Aquatic Food Co., Ltd. covering the period September 1, 2013, through August 31, 2014.

Disclosure and Public Comment

The Department will disclose calculations performed in these preliminary results to parties within five days after the date of publication of this notice.² Pursuant to 19 CFR 351.309(c), interested parties may submit cases briefs no later than 30 days after the date of publication of these preliminary results of review.³ Parties who submit arguments are requested to submit with the argument: (1) A statement of the issue; (2) a brief summary of the argument; and (3) a table of authorities. Rebuttal briefs, limited to issues raised in case briefs, may be filed no later than five days after the time limit for filing the case briefs, as specified by 19 CFR 351.309(d).

² See 19 CFR 351.224(b).

³ See 19 CFR 351.309(c).

Interested parties who wish to request a hearing, must submit a written request to the Assistant Secretary for Enforcement and Compliance. All documents must be filed electronically using ACCESS which is available to registered users at http://access.trade.gov. An electronically filed document must be received successfully in its entirety by ACCESS by 5:00 p.m. Eastern Time within 30 days after the date of publication of this notice.⁴ Requests should contain (1) the party's name, address, and telephone number; (2) the number of participants; and (3) a list of issues to be discussed. Issues raised in the hearing will be limited to those raised in the respective case briefs. If a request for a hearing is made, we will inform parties of the scheduled date for the hearing, which will be held at the U.S. Department of Commerce, 14th and Constitution Avenue NW., Washington, DC 20230, at a time and location to be determined.⁵ Parties should confirm by telephone or email the date, time, and location of the hearing.

⁴ See 19 CFR 351.310(c).

⁵ Id.

Unless the deadline is extended pursuant to section 751(a)(2)(B)(iv) of the Act, the Department will issue the final results of these reviews, including the results of its analysis of issues raised by parties in their comments, within 120 days after the publication of these preliminary results, pursuant to section 751(a)(3)(A) of the Act and 19 CFR 351.213(h).

Assessment Rates

Upon issuing the final results, the Department will determine, and CBP shall assess, antidumping duties on all appropriate entries covered by these reviews.⁶ If a respondent's weighted average dumping margin is above de minimis (i.e., 0.50 percent) in the final results of these reviews, the Department will calculate an importer-specific assessment rate on the basis of the ratio of the total amount of dumping calculated for each importer's examined sales and, where possible, the total entered value of sales, in accordance with 19 CFR 351.212(b)(1). In these preliminary results, the Department applied the assessment rate calculation method adopted in the Final Modification for Reviews, i.e., on the basis of monthly average-to-average comparisons using only the transactions associated with the importer with offsets being provided for non-dumped comparisons.⁷ Where either the respondent's weighted-average dumping margin is zero or de minimis, or an importer-specific assessment rate is zero or de minimis, we will instruct CBP to liquidate the appropriate entries without regard to antidumping duties. ⁸

⁶ See 19 CFR 351.212(b)(1).

⁷ See Antidumping Proceeding: Calculation of the Weighted-Average Dumping Margin and Assessment Rate in Certain Antidumping Duty Proceedings; Final Modification, 77 FR 8101 (February 14, 2012) (Final Modification for Reviews).

⁸ See 19 CFR 351.106(c)(2).

Pursuant to the Department's assessment practice in NME cases,⁹ for entries that were not reported in the U.S. sales databases submitted by companies individually examined during this review, the Department will instruct CBP to liquidate such entries at the PRC-wide rate. We intend to issue assessment instructions to CBP 15 days after the date of publication of the final results of these reviews.

⁹ For a full discussion of this practice, see Non-Market Economy Antidumping Proceedings: Assessment of Antidumping Duties, 76 FR 65694 (October 24, 2011).

Cash Deposit Requirements

The following cash deposit requirements will be effective upon publication of the final results of these reviews for shipments of the subject merchandise from the PRC entered, or withdrawn from warehouse, for consumption on or after the publication date, as provided by section 751(a)(2)(C) of the Act: (1) For the companies listed above that have a separate rate, the cash deposit rate will be that established in the final results of these reviews (except if the rate is zero or de minimis, i.e., less than 0.5 percent, then no cash deposit will be required) (2) for previously investigated or reviewed PRC and non-PRC exporters not listed above that received a separate rate in a prior segment of this proceeding, the cash deposit rate will continue to be the existing exporter-specific rate; (3) for all PRC exporters of subject merchandise that have not been found to be entitled to a separate rate, the cash deposit rate will be that for the PRC-wide entity; and (4) for all non-PRC exporters of subject merchandise which have not received their own rate, the cash deposit rate will be the rate applicable to the PRC exporter that supplied that non-PRC exporter.

With respect to Hubei Yuesheng, a new shipper respondent, the Department established a combination cash deposit rate for this company consistent with its practice as follows: (1) For subject merchandise produced and exported by Hubei Yuesheng, the cash deposit rate will be the rate established for Hubei Yuesheng in the final results of the NSR; (2) for subject merchandise exported by Hubei Yuesheng, but not produced by Hubei Yuesheng, the cash deposit rate will be the rate for the PRC-wide entity; and (3) for subject merchandise produced by Hubei Yuesheng but not exported by Hubei Yuesheng, the cash deposit rate will be the rate applicable to the exporter.

With respect to Weishan Hongda, a new shipper respondent, the Department established a combination cash deposit rate for this company consistent with its practice as follows: (1) For subject merchandise produced and exported by Weishan Hongda, the cash deposit rate will be the rate established for Weishan Hongda in the final results of the NSR; (2) for subject merchandise exported by Weishan Hongda, but not produced by Weishan Hongda, the cash deposit rate will be the rate for the PRC-wide entity; and (3) for subject merchandise produced by Weishan Hongda but not exported by Weishan Hongda, the cash deposit rate will be the rate applicable to the exporter.

These deposit requirements, when imposed, shall remain in effect until further notice.

Notification to Importers

This notice serves as a preliminary reminder to importers of their responsibility under 19 CFR 351.402(f)(2) to file a certificate regarding the reimbursement of antidumping duties prior to liquidation of the relevant entries during these PORs. Failure to comply with this requirement could result in the Department's presumption that reimbursement of antidumping duties occurred and the subsequent assessment of double antidumping duties.

We are issuing and publishing the preliminary results of these reviews in accordance with sections 751(a)(1), 751(a)(2)(B)(iv), 751(a)(3), 777(i) of the Act and 19 CFR 351.213(h), 351.214 and 351.221(b)(4).

Dated: September 30, 2015.
Ronald K. Lorentzen,
Acting Assistant Secretary for Enforcement and Compliance.

Appendix—List of Topics Discussed in the Preliminary Decision Memorandum

1. Summary

2. Background

3. Scope of the Order

4. Bona Fides Analysis

5. Verification

6. Non-Market-Economy Country Status

7. Surrogate Country

8. Separate Rates

9. Absence of De Jure Control

10. Absence of De Facto Control

11. Separate Rate for a Non-Selected Company

12. Fair Value Comparisons

13. U.S. Price

14. Normal Value

15. Surrogate Values

16. Currency Conversion

17. Recommendation

[FR Doc. 2015-25412 Filed 10-6-15; 8:45 am]

BILLING CODE 3510-DS-P